DEPARTMENT OF TRANSPORTATION

Office of the Secretary

Agency Information Collection; Transportation for Individuals With Disabilities—Accessibility of Over-the-Road Buses (OTRBs); Correction

AGENCY: Office of the Secretary, DOT.

ACTION: Correction to notice and request for comments.

SUMMARY: On February 5, 2002 (67 FR 5353), the Department of Transportation published a notice and request for comments on the information collection requirements in the Department's amendment of its final rule on Accessibility of Over-the-Road Buses. This document corrects certain editorial errors in that document. The corrections do not affect the substance of the notice.

FOR FURTHER INFORMATION CONTACT: Linda C. Lasley, Attorney-Advisor, Regulation and Enforcement, Office of the General Counsel, U.S. Department of Transportation, 400 Seventh Street, SW., Washington, DC 20590, (202) 366-4723.

SUPPLEMENTARY INFORMATION: On page 5354, column one, of the notice and request for comments, the abstract states in part:

The final rule has four different recordkeeping/reporting requirements. The first has to do with 48 hour advance notice and compensation. The second has to do with equivalent service and compensation.”

Unfortunately, through an editorial error on the Department's part, the abstract erroneously refers to “compensation.” All references to compensation were removed in the final rule. We regret any confusion caused by the inclusion of compensation in this notice. The Department is not seeking comments regarding compensation. The Department removed this provision from the final rule in response to a court decision.

Issued this 22nd day of February 2002, at Washington, DC.
Robert C. Ashby,
Deputy Assistant General Counsel for Regulation and Enforcement.

[FR Doc. 02-5154 Filed 3-5-02; 8:45 am]

BILLING CODE 4910-62-P